FEDERAL COMMUNICATIONS COMMISSION

Notice of Public Information Collection(s) Being Submitted for Review to the Office of Management and Budget

May 4, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before June 10, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this new or revised information collection, you may do so by visiting the FCC PRA Web page at: http://www.fcc.gov/omd/pra.

FOR FURTHER INFORMATION CONTACT: For additional information or copies of the information collection(s), contact Judith B. Herman at (202) 418-0214 or via the Internet at Judith-B.Herman@fcc.gov.

SUPPLEMENTARY INFORMATION: OMB Control No.: 3060-0798.

Title: FCC Application for Wireless Telecommunications Bureau Radio Service Authorization.

Form No.: FCC Form 601.

Type of Review: Revision of a currently approved collection.

Respondents: Individuals or households; business or other for-profit, not-for-profit institutions, and state, local or tribal government.

Number of Respondents: 250,520.

Estimated Time Per Response: 1.25 hours.

Frequency of Response: Recordkeeping requirement, third party disclosure requirement, and on occasion and every 10 year reporting requirements.

Total Annual Burden: 219,205 hours.

Total Annual Cost: $50,104,000.

Privacy Act Impact Assessment: Yes.

Needs and Uses: The Commission adopted and released two rulemakings that revised this information collection. FCC 04-135 now includes the addition of radio services: Broadband Radio (formerly Multipoint Distribution Service radio service); Educational Broadband Services (formerly the VX radio service); and a new Schedule E has been created for the technical data for these services. FCC 04-23 made changes to Schedules D, I and M to items concerning the Quiet Zone. The requirements include: (1) To provide for immediate processing of applications that may implicate Quiet Zones, in the event that the applicant indicates that it has obtained consent, if required by section 1.924, of the Quiet Zone entity; (2) to clarify that applicants may provide notification to and begin coordination with Quiet Zone entities, where required, in advance of filing an application with the Commission; (3) amend section 101.31(b)(1)(v) to permit Part 101 applicants to initiate conditional operation, provided they have obtained prior consent of the Quiet Zone entity to the extent required, and are otherwise eligible to initiate conditional operations over the proposed facility; similarly, the Bureau clarifies that, for services in which individual station licenses are not issued, licensees may initiate operations immediately upon receipt of the Quiet Zone entity's consent; and (4) to clarify that either the applicant or the applicant's frequency coordinator may notify and initiate any required coordination proceedings with the Quiet Zone entity.

Note: For purposes of simplicity, all areas implicated by section 1.924 will be referred to as “Quiet Zones.” We note that the only area with the formal designation of “Quiet Zone” is the National Radio Quiet Zone, which encompasses the National Radio Astronomy Observatory and the Naval Radio Research Observatory.

The Commission uses the information provided by applicants on the FCC Form 601 to update its database and to determine where the applicant is legally, technically and financially qualified to provide licensed services and to make proper use of the frequency spectrum.

Federal Communications Commission.
Marlene H. Dortch,
Secretary.

[FR Doc. 05-9408 Filed 5-10-05; 8:45 am]

BILLING CODE 6712-01-P